DEPARTMENT OF AGRICULTURE

Submission for OMB Review; Comment Request

The Department of Agriculture has submitted the following information collection requirement(s) to OMB for review and approval under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 3, 2026 will be considered. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Food Safety and Inspection Service

Title: Marking, Labeling, and Packaging of Meat, Poultry, and Egg Products.

OMB Control Number: 0583-0092.

Summary of Collection: The Food Safety and Inspection Service (FSIS) has been delegated the authority to exercise the functions of the Secretary (7 CFR 2.18, 2.53), as specified in the Federal Meat Inspection Act (FMIA) (21 U.S.C. 601, et seq.), the Poultry Products Inspection Act (PPIA) (21 U.S.C. 451, et seq.), and the Egg Products Inspection Act (EPIA) (21 U.S.C. 1031, et seq.). These statutes mandate that FSIS protect the public by verifying that meat, poultry, and egg products are safe, wholesome, and properly labeled. FSIS is requesting renewal of the approved information collection regarding the regulatory requirements for marking, labeling, and packaging of meat, poultry, and egg products.

Need and Use of the Information: This collection covers the certification of marking devices. This collection also covers the labeling approval process through which establishments are to submit their labels to FSIS for approval and maintain related files. Meat and poultry establishments and egg products plants must develop labels in accordance with FSIS regulations (9 CFR 317.1, 381.115, 590.410, and 412.2). Unless labels are generically approved (meaning, they do not need to be submitted to FSIS prior to use on product in commerce), establishments must complete an application for approval (“Application for Approval of Labels, Marking or Device,” FSIS Form 7234-1)(9 CFR 412.1). The establishment must maintain a copy of all the labeling used, along with product formulation and processing procedures and any additional documentation needed to support that the labels are consistent with FSIS regulations and policies on labeling (9 CFR 320.1(b)(11) and 381.175(b)(6)). Additionally, establishments requesting reconsideration of a label application that the Agency has modified or rejected under 9 CFR 500.8 submit their request using the “Request for Label Reconsideration,” FSIS Form 8822-4.

Description of Respondents: Business or other for-profit.

Number of Respondents: 255,578.

Frequency of Responses: Recordkeeping; Reporting: On occasion.

Total Burden Hours: 121,867.

Levi S. Harrell,
Departmental Information Collection Clearance Officer.

[FR Doc. 2026-04211 Filed 3-3-26; 8:45 am]

BILLING CODE 3410-DM-P